DEPARTMENT OF THE INTERIOR

Fish and Wildlife Service

[FWS-R1-R-2011-N229; 1265-0000-10137-S3]

James Campbell National Wildlife Refuge, Honolulu County, HI; Final Comprehensive Conservation Plan and Finding of No Significant Impact for Environmental Assessment

AGENCY: Fish and Wildlife Service, Interior.

ACTION: Notice of availability.

SUMMARY: We, the U.S. Fish and Wildlife Service (Service), announce the availability of our final comprehensive conservation plan (CCP) and a finding of no significant impact for the environmental assessment for the James Campbell National Wildlife Refuge (refuge). In this final CCP, we describe how we will manage this refuge for the next 15 years.

ADDRESSES: You may view or obtain copies of the final CCP and the finding of no significant impact (FONSI) and environmental assessment (EA) by any of the following methods. You may request a hard copy or CD-ROM.

Agency Web site: Download the documents at www.fws.gov/pacific/planning.

Email: FW1PlanningComments@fws.gov. Include “James Campbell Refuge CCP” in the subject line of the message.

Mail: David Ellis, Project Leader, O`ahu National Wildlife Refuge Complex, 66-590 Kamehameha Highway, Room 2C, Hale`iwa, HI 96712.

In-Person Viewing or Pickup: O`ahu National Wildlife Refuge Complex, 66-590 Kamehameha Highway, Room 2C, Hale`iwa, HI 96712.

FOR FURTHER INFORMATION CONTACT: David Ellis, Project Leader, (808) 637-6330.

SUPPLEMENTARY INFORMATION:

Introduction

With this notice, we announce the completion of the CCP process for the James Campbell National Wildlife Refuge. The Service started this process through a notice of intent in the Federal Register on December 1, 2008 (73 FR 72826). We released the draft CCP/EA to the public, announcing and requesting comments in a notice of availability in the Federal Register (76 FR 38414; June 30, 2011).

We announce our CCP decision and the availability of a FONSI in accordance with the National Wildlife Refuge System Administration Act of 1966 (16 U.S.C. 668dd-668ee) and National Environmental Policy Act (NEPA) (40 CFR 1506.6(b)) requirements. We prepared a thorough analysis of impacts, which we included in an EA that accompanied the draft CCP.

The CCP will guide us in managing and administering the refuge for the next 15 years. Alternative C, as described in the draft CCP, is the basis for the CCP.

Background

The Refuge Administration Act, as amended by the National Wildlife Refuge System Improvement Act of 1997, requires us to develop a CCP for each refuge. The purpose for developing a CCP is to provide refuge managers with a 15-year plan for achieving refuge purposes and contributing toward the mission of the National Wildlife Refuge System, consistent with sound principles of fish and wildlife management, conservation, legal mandates, and our policies. In addition to outlining broad management direction on conserving wildlife and their habitats, CCPs identify compatible wildlife-dependent recreational opportunities available to the public, including opportunities for hunting, fishing, wildlife observation and photography, and environmental education and interpretation. We will review and update the CCP at least every 15 years in accordance with the Refuge Administration Act.

CCP Alternatives, Including Selected Alternative

During our CCP planning process we identified several issues. To address these issues, we developed and evaluated the following alternatives in our draft CCP/EA.

Alternative A, No Action

Under Alternative A, we would have continued current management with no changes. This includes focusing threatened and endangered species management on protection and successful nesting. Public use programs would remain virtually unchanged. Refuge management units would remain closed to general public entry except for seasonal docent-guided tours and Special Use Permits issued on a case-by-case basis for environmental education, research, and other compatible uses. Newly acquired refuge lands would receive custodial oversight only, no habitat restoration would occur, and no additional visitor services would be provided. Both current commercial aquaculture leases would remain in effect until 2023.

Alternative B, Partial Restoration and Management of Refuge Expansion Lands

Under Alternative B, current habitat management programs focusing on wetland management for endangered waterbirds would have continued. On newly acquired refuge lands, only the highest priority wetlands and coastal dunes would be restored and fenced to exclude large predators. A Visitor Services Plan (VSP) would be developed to identify the types of compatible wildlife-oriented activities we would provide to the public as well as the sites and locations for the infrastructure needed to fully support public programs. We would also identify new special regulations in the VSP which may be needed to protect sensitive wildlife resources, the fragile coastline, and the visiting public. During the interim period until the VSP would be prepared, the current public use program would have slight increases in opportunities for wildlife observation and photography. The refuge would participate and partner with other agencies and the community of Kahuku on projects to mitigate flood damage to the local area, if practical and feasible. Both current commercial aquaculture leases would remain in effect until 2023.

Alternative C, Full Restoration and Management of Refuge Expansion Lands

In addition to management actions identified in Alternative B, all wetlands, coastal dunes/strand, and scrub/shrub habitats would be restored and managed under Alternative C. Trial use of predator-proof fencing would be initiated on selected dune or wetland sites to protect seabirds or waterbirds. Abandoned aquaculture facilities would be cleaned up, and the habitat would be restored to natural conditions or other approved uses.

Comments

We solicited comments on the draft CCP/EA from June 30, 2011, to August 1, 2011 (76 FR 38414; June 30, 2011). We received comment letters, forms, and emails on the draft CCP/EA. To address public comments, responsive changes and clarifications were made to the final CCP where appropriate.

Selected Alternative

After considering the comments we received, we have selected Alternative C for implementation. By implementing Alternative C, we will intensively manage endangered waterbird species and their habitat at the Ki`i and Punamanõ Units of the refuge with a focus on protection and successful nesting as part of the statewide effort to implement the Hawaiian Waterbird Recovery Plan. The unique and sensitive coastal sand dunes and coastal strand will be managed to protect and enhance the area for native vegetation, seabirds, other migratory birds, endangered Hawaiian monk seals, and green turtles. A VSP will be developed to identify, evaluate, and select sites for the infrastructure needed to fully implement a safe and compatible program for the public (to include roads, parking areas, trails, overlooks, etc.). The VSP will identify any new special regulations needed to protect sensitive wildlife resources, the fragile coastline, and the visiting public. If funded, the design and construction of a Visitor Center/Environmental Education facility and refuge office will serve the public, students, and refuge staff.

The refuge will continue to participate and cooperate in community and interagency efforts to address flood damage reduction for the local area. We will continue to evaluate our infrastructure on the refuge, particularly on newly acquired lands, to determine if further changes can be made to help mitigate flood damages. Both current commercial aquaculture leases will remain in effect until 2023 at which time, by prior agreement, they will expire.

All wetlands, coastal dunes/strand and scrub/shrub habitats will be restored and managed. Fencing will be installed at appropriate locations throughout the refuge to reduce the devastating impacts of exotic predators on native wildlife. Additionally, the trial use of predator-proof fencing will be initiated on selected coastal dunes and/or wetland sites to protect nesting seabirds and waterbirds. Abandoned aquaculture facilities will be cleaned up. As necessary, we will work with the State to protect wildlife and standardize public use regulations on the shoreline adjacent to the refuge coastline.

Dated: November 16, 2011.
Michael Carrier,
Acting Regional Director, Pacific Region, Portland, Oregon.

[FR Doc. 2011-32390 Filed 12-16-11; 8:45 am]

BILLING CODE 4310-55-P